DEPARTMENT OF COMMERCE

Office of the Secretary

[Docket No.: 021023246-2246-01]

Privacy Act of 1974; System of Records

AGENCY: Office of Administration, Office of the Secretary, Department of Commerce.

ACTION: Notice and request for comments.

SUMMARY: In accordance with the Privacy Act (5 U.S.C. 552a(e)(4) and (11)), the Department of Commerce is issuing notice of our intent to amend the system of records entitled Commerce/Census-2, “Employee Productivity Measurement Records.” We invite public comment on the proposed change in this publication.

DATES: The amendments will become effective as proposed without further notice on December 2, 2002.

Comment Date: To be considered, written comments must be submitted on or before December 2, 2002.

ADDRESSES: Comments may be mailed to Gerald W. Gates, Chief, Policy Office, U.S. Census Bureau, Washington, DC 20233.

SUPPLEMENTARY INFORMATION: The amendment updates administrative information concerning the locations of the system files, the categories of individuals covered by the system, the purpose of the system of records, and the disposal of the records in the system in addition to other minor administrative updates.

Accordingly, the Employee Productivity Measurement Records system notice originally published at 45 FR 82105, December 12, 1980, is amended by the addition of the following information updates.

Commerce/Census-2

System Location:

Strike “and Bureau of the Census, Personal Census Service Branch, Pittsburg, Kansas 66762.” Before “1201” insert “National Processing Center,”. Strike the remainder of the paragraph after “Also at the following Census Regional Offices:” and insert “101 Marietta Street, NW., Suite 3200, Atlanta, Georgia 30303-2700; 2 Copley Place, Suite 301, P.O. Box 9108, Boston, Massachusetts 02117-9108; 901 Center Park Drive, Suite 106, Charlotte, North Carolina 28217-2935; 2255 Enterprise Drive, Suite 5501, Chicago, Illinois 60154; 6303 Harry Hines Boulevard, Suite 210, Dallas, Texas 75235-2569; 6900 West Jefferson Avenue, Suite 100, Denver, Colorado 80235-2032; 1395 Brewer Park Boulevard, Detroit, Michigan 48207; Gateway Tower II, 400 State Avenue, Suite 600, Kansas City, Kansas 66101-2410; 15359 Sherman Way, Suite 300, Van Nuys, California 91406-4224; Jacob K. Javits Federal Building, 26 Federal Plaza, Room 37-130, New York, New York 10278-0044; 21st Floor, 1601 Market Street, Philadelphia, Pennsylvania 19103-2395; 700 5th Avenue, Suite 5100, Seattle, Washington, 98104-5018.”

Categories of individuals covered by the system:

Insert “Bureau” between “Census” and employees.”

Categories of records in the system:

After “percent performance,” insert “percent of time or standard (incentive coverage),''.

Authority for maintenance of the system:*

Purpose(s):

Add “The purpose of this system of records is to determine employee performance and work group productivity, to improve workforce performance, and to evaluate the cost effectiveness of the programs that the Bureau manages.”

Routine uses of records maintained in the system, including categories of users and the purposes of such uses:

(1) In the event that a system or records maintained by the Department to carry out its functions indicates a violation or potential violation of law or contract, whether civil, criminal or regulatory in nature, and whether arising by general statute or particular program statute or contract, or rule, regulation, or order issued pursuant thereto, or the necessity to protect an interest of the Department, the relevant records in the system of records may be referred to the appropriate agency, whether Federal, state, local or foreign, charged with the responsibility of investigating or prosecuting such violation or charged with enforcing or implementing the statute or contract, or rule, regulation or order issued pursuant thereto, or protecting the interest of the Department.

(2) A record from this system of records may be disclosed to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

(3) A record from this system of records may be disclosed to a Federal, state, local or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

(4) A record from this system of records may be disclosed in the course of presenting evidence to a court, magistrate or administrative tribunal, including disclosures to opposing counsel in the course of settlement negotiations.

(5) A record in this system of records may be disclosed to a Member of Congress submitting a request involving an individual when the individual has requested assistance from the Member with respect to the subject matter of the record.

(6) A record in this system of records may be disclosed to the Office of Management and Budget in connection with the review of private relief legislation as set forth in OMB Circular No. A-19 at any stage of the legislative coordination and clearance process as set forth in that Circular.

(7) A record in this system of records may be disclosed to the Department of Justice in connection with determining whether disclosure thereof is required by the Freedom of Information Act (5 U.S.C. 552).

(8) A record in this system of records may be disclosed to a contractor of the Department having need for the information in the performance of the contract, but not operating a system of records within the meaning of 5 U.S.C. 552a(m).

(9) A record in this system may be transferred to the Office of Personnel Management: for personnel research purposes; as a data source for management information; for the production of summary descriptive statistics and analytical studies in support of the function for which the records are collected and maintained; or for related manpower studies.

(10) A record from this system of records may be disclosed to the Administrator, General Services, or his designee, during an inspection of records conducted by GSA as part of that agency's responsibility to recommend improvements in records management practices and programs under authority of 44 U.S.C. 2904 and 2906. Such disclosure shall be made in accordance with the GSA regulations governing inspection of records for this purpose, and any other relevant (i.e. GSA or Commerce) directive. Such disclosure shall not be used to make determinations about individuals.

Policies and practices for storing, retrieving, accessing, retaining, and disposing of records in the system:

Storage:

After “paper copy” add: “and electronic records'.

Retrievability:*

Safeguards:

Insert “s” at the end of the word “Tape”; insert “and” after “Tapes”; insert “and” before “sensitive”; insert “are” between “materials” and “held”.

Retention and disposal:

Change “Records” to “records”, and insert before “records” the following: “In accordance with the General Records Schedule and Census Bureau records control schedules that are approved by the National Archives and Records Administration,”.

Systems manager(s) and address:

Delete “Administration.” Insert “Field Operations”.

Notification procedure:

Insert “Privacy Act” between “Department's” and “rules.”

Record access procedures:*

Contesting record procedures:*

Records source categories:*

______

* Indicates that there are no changes to that paragraph of the notice.

Dated: October 29, 2002
Brenda Dolan,
Department of Commerce, Freedom of Information/Privacy Act Officer.

[FR Doc. 02-27818 Filed 10-31-02; 8:45 am]

BILLING CODE 3510-07-P